DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Consolidated Data Information System-VA” (97VA105) as set forth in the Federal Register 76 FR 25409. VA is amending the system by revising the System Number and Appendix 5.

DATES: Comments on the amendment of this system of records must be received no later than April 2, 2015. If no public comment is received, the amended system will become effective April 2, 2015.

ADDRESSES: Written comments may be submitted through www.Regulations.gov; by mail or hand-delivery to Director, Regulations Management (02Reg), Department of Veterans Affairs, 810 Vermont Avenue NW., Room 1068, Washington, DC 20420; or by fax to (202) 273-9026. Comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System (FDMS) at www.Regulations.gov.

FOR FURTHER INFORMATION CONTACT: Stephania Griffin, Veterans Health Administration (VHA) Privacy Officer, Department of Veterans Affairs, 810 Vermont Avenue NW., Washington, DC 20420, (704) 245-2492.

SUPPLEMENTARY INFORMATION: The system number is changed from 97VA105 to 97VA10P1 to reflect the current organizational alignment.

VA Appendix 5 is being amended to change VA Information Resource Center (VIReC), Hines VA Medical Center, 5th Ave. & Roosevelt Ave., Hines, IL 60141 to VA/CMS Data for Research Project VA Information Resource Center (151V), Hines VA Hospital (578), 5000 South 5th Avenue Building 18, Hines, IL 60141-3030. Also, the address of the Office of the Assistant Deputy Under Secretary for Health (ADUSH) for Policy and Planning, 811 Vermont Avenue NW., Washington, DC 20420 is being changed to 810 Vermont Avenue NW.

The Report of Intent to Amend a System of Records Notice and an advance copy of the system notice have been sent to the appropriate Congressional committees and to the Director of the Office of Management and Budget (OMB) as required by the Privacy Act, 5 U.S.C. 552a(r), and guidelines issued by OMB, 65 FR 77677 (Dec. 12, 2000).

Signing Authority

The Secretary of Veterans Affairs, or designee, approved this document and authorized the undersigned to sign and submit the document to the Office of the Federal Register for publication electronically as an official document of the Department of Veterans Affairs. Jose D. Riojas, Chief of Staff, approved this document on February 10, 2015, for publication.

Dated: February 25, 2015.
Jeffrey M. Martin,
Program Manager, Regulation Policy and Management, Office of the General Counsel, Department of Veterans Affairs.

97VA10P1

SYSTEM NAME:

Consolidated Data Information System-VA

* * * * *

VA APPENDIX 5

1. VA Medicare and Medicaid Analysis Center, field unit of the Office of the Assistant Deputy Under Secretary for Health (ADUSH) for Policy and Planning, 100 Grandview Rd., Suite 114, Braintree, MA 02184.

2. VA/CMS Data for Research Project VA Information Resource Center (151V) Hines VA Hospital (578) 5000 South 5th Avenue Building 18 Hines, IL 60141-3030.

3. Office of the Assistant Deputy Under Secretary for Health (ADUSH) for Policy and Planning, 810 Vermont Avenue NW., Washington, DC 20420.

4. Austin Information Technology Center, 1615 Woodward Street, Austin, TX 78772.

5. VA facilities.

[FR Doc. 2015-04313 Filed 3-2-15; 8:45 am]

BILLING CODE 8320-01-P